DEPARTMENT OF TRANSPORTATION

Federal Railroad Administration

Environmental Impact Statement for the California High-Speed Train Project from Merced to Fresno, CA

AGENCY: Federal Railroad Administration (FRA), Department of Transportation (DOT).

ACTION: Notice of intent to prepare an environmental impact statement.

SUMMARY: The FRA issued a Notice of Intent on March 13, 2009 for the preparation of an Environmental Impact Statement (EIS) and Environmental Impact Report (EIR) with the California High-Speed Rail Authority (Authority) for the Merced to Bakersfield section of the Authority's proposed California High-Speed Train (HST) System in compliance with relevant state and federal laws, in particular the National Environmental Policy Act (NEPA) and the California Environmental Quality Act (CEQA). In that Notice, alternatives involving the alignments and stations located between Merced and Bakersfield were identified. This notice amends the project environmental process for the Merced to Bakersfield section and announces the preparation of two separate EIR/EISs.

FRA and the Authority have determined that the environmental effects of the HST System from Merced to Bakersfield are more appropriately assessed in two separate documents; one for Merced to Fresno and another for Fresno to Bakersfield. This Notice amends the environmental process started on March 13, 2009 to instead a Project EIR/EIS for the Merced to Fresno section of the HST System. The decision to complete two separate EIR/EISs was made because the project sections are of sufficient length, with logical termini allowing for an analysis of environmental matters on a broad scope to ensure that the project will function properly without requiring additional improvements elsewhere; and the assessment of HST alternatives in the Merced to Fresno section will not restrict consideration of alternatives for other transportation improvements.

In 2001, the Authority and FRA started a tiered environmental review process for the HST System and in 2005, completed the first tier California High Speed Train Program EIR/EIS (Statewide Program EIR/EIS) and approved the statewide HST System for intercity travel in California between the major metropolitan centers of Sacramento and the San Francisco Bay Area in the north, through the Central Valley, to Los Angeles and San Diego in the south. The approved HST System would be about 800-miles long, with electric propulsion and steel-wheel-on-steel-rail trains capable of operating speeds of 220 miles per hour (mph) on a dedicated system of fully grade-separated, access-controlled steel tracks with state-of-the-art safety, signaling, communication, and automated train control systems. In approving the HST System, the Authority and FRA also selected corridors/general alignments and station location options throughout most of the system. The Statewide Program EIR/EIS generally selected the Burlington Northern Santa Fe Railroad (BNSF) corridor for the high-speed train route from Merced to Fresno with stations at Merced and in Fresno.

In 2008, the Authority and FRA completed a second program EIR/EIS to evaluate and select general alignments and station locations within the broad corridor between, and including, the Altamont Pass and the Pacheco Pass to connect the Bay Area and Central Valley portions of the HST System. The Authority and FRA selected the Pacheco Pass with San Francisco and San Jose termini network alternative, as well as preferred corridor alignments and station location options. The Union Pacific Railroad Company (UPRR) corridor was selected as the preferred alignment through the portion of the Central Valley from south of Stockton to north of Madera and the BNSF railroad corridor from Madera to Fresno was selected by the Statewide Program EIR/EIS.

The preparation of the Merced to Fresno HST Project EIR/EIS will involve the development of preliminary engineering designs and the assessment of potential environmental effects associated with the construction, operation, and maintenance of the HST System, including track, ancillary facilities and stations, along the preferred alternative corridors from Merced to Fresno. The Merced to Fresno HST Project also includes the connection from the San Jose to Merced HST Project.

DATES: FRA and the Authority invite the general public, other government agencies, and all other interested parties to comment on the amended scope and content of the Merced to Fresno HST Project EIR/EIS. FRA and the Authority are soliciting additional oral and written comments, suggestions, requests for information, and requests for public meetings no later than October 30, 2009. These comments will receive equal consideration as comments presented during the March 2009 scoping period for the former Merced to Bakersfield HST Project EIR/EIS.

ADDRESSES: Written comments on the scope should be sent to Ms. Carrie Bowen, Regional Director, ATTN. Merced to Fresno, California High-Speed Rail Authority, 925 L Street, Suite 1425, Sacramento, CA 95814, or via e-mail with subject line “Merced to Fresno HST” to: comments@hsr.ca.gov. Comments may also be provided orally at the same address.

FOR FURTHER INFORMATION CONTACT: Mr. David Valenstein, Environmental Program Manager, Office of Railroad Development, Federal Railroad Administration, 1200 New Jersey Avenue, SE (Mail Stop 20), Washington, DC 20590 (telephone: 202-493-6368); or Ms. Carrie Bowen, Regional Director, ATTN. Merced to Fresno, California High-Speed Rail Authority, 925 L Street, Suite 1425, Sacramento, CA 95814 (telephone: 559-221-2636).

SUPPLEMENTARY INFORMATION: The Authority was established in 1996 and is authorized and directed by statute to undertake the planning and development of a proposed statewide HST network that is fully coordinated with other public transportation services. The Authority adopted a Final Business Plan in June 2000, which reviewed the economic feasibility of an 800-mile-long HST System capable of operating speeds in excess of 200 miles per hour on a dedicated, fully grade-separated state-of-the-art track. The Authority released an updated Business Plan in November 2008.

The FRA has responsibility for overseeing the safety of railroad operations, including the safety of any proposed high-speed ground transportation system. FRA is also authorized to provide Federal funding for intercity passenger rail capital investments including high-speed rail. For the proposed HST, it is anticipated that FRA would need to take certain regulatory actions prior to operation and may provide financial assistance for the project including grant funds.

In 2005, the Authority and FRA completed a Statewide Program EIR/EIS for the Proposed California High Speed Train System, as the first phase of a tiered environmental review process. The Authority certified the Program EIR under CEQA and approved the proposed HST System, and FRA issued a Record of Decision under NEPA for the Program EIS. This Statewide Program EIR/EIS established the purpose and need for the HST System, analyzed an HST System, and compared it with a No Project/No Action Alternative and a Modal Alternative. In approving the Statewide Program EIR/EIS, the Authority and FRA selected the HST Alternative, selected certain corridors/general alignments and general station locations for further study, incorporated mitigation strategies and design practices, and specified further measures to guide the development of the HST System during the site-specific project level environmental review to avoid and minimize potential adverse environmental impacts. In the subsequent Bay Area to Central Valley HST Final Program EIR/EIS, the Authority and FRA selected the Pacheco Pass alternative, via Henry Miller Road, to connect the Bay Area to the Central Valley.

The Merced to Fresno HST Project EIR/EIS will tier from the Statewide Program EIR/EIS and the Bay Area to Central Valley HST Program EIR/EIS in accordance with Council on Environmental Quality (CEQ) regulations, (40 CFR 1508.28) and State CEQA Guidelines (14 California Code of Regulations 15168(b)). Tiering will ensure that the Merced to Fresno HST Project EIR/EIS builds upon all previous work prepared for and incorporated in the Statewide Program EIR/EIS and the Bay Area to Central Valley HST Program EIR/EIS.

The Merced to Fresno HST Project EIR/EIS will describe site-specific environmental impacts, identify specific mitigation measures to address those impacts and incorporate design features to avoid and minimize potential adverse environmental impacts. The FRA and the Authority will assess the site characteristics, size, nature, and timing of the proposed project to determine whether the impacts are potentially significant and whether impacts can be avoided or mitigated. This Project EIR/EIS will identify and evaluate reasonable and feasible site specific alignment alternatives, and evaluate the impacts of construction, operation, and maintenance of the HST System. Information and documents regarding this HST environmental review process will be made available through the Authority's Internet site: http://www.cahighspeedrail.gov/.

Purpose and Need: The purpose of the proposed HST System is to provide a new mode of high-speed intercity travel that would link major metropolitan areas of the state; interface with airports, mass transit, and highways; and provide added capacity to meet increases in intercity travel demand in California in a manner sensitive to and protective of California's unique natural resources. The need for a HST System is directly related to the expected growth in population, and increases in intercity travel demand in California over the next twenty years and beyond. With the growth in travel demand, there will be an increase in travel delays arising from the growing congestion on California's highways and at airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HST system is designed to address some of the social, economic and environmental problems associated with transportation congestion in California.

Alternatives: The Merced to Fresno HST Project EIR/EIS will consider a No Action or No Project Alternative and an HST Alternative for the Merced to Fresno section.

No Action Alternative: The No Action Alternative (No Project or No Build) represents the conditions in the corridor as it existed in 2009, and as it would exist based on programmed and funded improvements to the intercity transportation system and other reasonably foreseeable projects through 2035, taking into account the following sources of information: the State Transportation Improvement Program (STIP), Regional Transportation Plans (RTPs) for all modes of travel, airport plans, intercity passenger rail plans, and city and county plans.

HST Alternative: The Authority proposes to construct, operate and maintain an electric-powered steel-wheel-on-steel-rail HST System, about 800 miles long, capable of operating speeds of 220 mph on dedicated, fully grade-separated tracks, with state-of-the-art safety, signaling, and automated train control systems. As part of the Bay Area to Central Valley HST Program EIR/EIS, the Authority and FRA selected the UPRR railroad alignment through the portion of the Central Valley from north of Madera to south of Stockton as the preferred alternative. This Project EIR/EIS will also evaluate the BNSF railroad alignment in this part of the Central Valley because of the uncertainty of negotiating with the UPRR for some of their right-of-way and will continue investigation of alignments/linkages to a potential maintenance facility at Castle AFB.

The BNSF alignment from Madera to Fresno was selected with the Statewide Program EIR/EIS. As defined in the Statewide Program EIR/EIS, this alignment would utilize the UPRR corridor through the urban area of Fresno. The HST would operate in this area at speeds up to 220 mph on tracks separate from the existing BNSF and UPRR tracks. Engineering studies to be undertaken as part of this EIR/EIS process will examine and refine alignments in the BNSF and UPRR corridors. The entire alignment would be grade separated from existing roadways. In addition, alternative sites for right-of-way maintenance, train storage facilities, and a light or heavy maintenance and repair facility will be evaluated in the Merced to Fresno HST project area. The preferred station locations selected by the Authority and FRA through the Statewide Program EIR/EIS and the Bay Area to Central Valley HST Program EIR/EIS in Merced will be evaluated in the Merced to Fresno HST Project EIR/EIS. The station in Fresno will be analyzed in the EIR/EIS for the Fresno-Bakersfield section of the HST System. Alternative station sites at or near the selected station locations may be identified and evaluated.

Probable Effects: The purpose of the EIR/EIS process is to explore, in a public setting, the effects of the proposed project on the physical, human, and natural environment. The FRA and the Authority will continue the tiered evaluation of all significant environmental, social, and economic impacts of the construction and operation of the HST System. Impact areas to be addressed include transportation impacts; safety and security; land use and zoning; land acquisition, displacements, and relocations; agricultural land impacts; cumulative and secondary impacts; cultural resource impacts, including impacts on historical and archaeological resources and parklands/recreation areas; neighborhood compatibility and environmental justice; and natural resource impacts including air quality, wetlands, water resources, noise, vibration, energy, wildlife and ecosystems, including endangered species. Measures to avoid, minimize, and mitigate adverse impacts will be identified and evaluated.

The Merced to Fresno HST Project EIR/EIS will be prepared in accordance with FRA's Procedures for Considering Environmental Impacts (64 FR 28545, May 26, 1999) and will address not only NEPA and CEQA but will also address, as necessary, other applicable statutes, regulations, and executive orders, including the Clean Air Act, Section 404 of the Clean Water Act, Section 106 of the National Historic Preservation Act of 1966, Section 4(f) of the Department of Transportation Act, the Endangered Species Act, and Executive Order 12898 on Environmental Justice. This EIR/EIS process will also continue the NEPA/Clean Water Act Section 404 integration process established through the Statewide Program EIR/EIS process. The EIR/EIS will evaluate project alignment alternatives, and station and maintenance facility locations to support a determination of the Least Environmentally Damaging Practicable Alternative (LEDPA) by the U.S. Army Corps of Engineers.

Comments: FRA encourages broad participation in the EIS process and review of the resulting environmental documents. Comments are invited from all interested agencies and the public to ensure the full range of issues related to the proposed action and reasonable alternatives are addressed and all significant issues are identified. In particular, FRA is interested in learning whether there are areas of environmental concern where there might be a potential for significant site-specific impacts from the Merced-Fresno section of the HST system. Public agencies with jurisdiction are requested to advise FRA and the Authority of the applicable permit and environmental review requirements of each agency, and the scope and content of the environmental information that is germane to the agency's statutory responsibilities in connection with the proposed project. Public agencies are requested to advise FRA if they anticipate taking a major action in connection with the proposed project and if they wish to cooperate in the preparation of the Project EIR/EIS.

Public scoping meetings were held in March 2009 for the Merced to Bakersfield HST Project EIR/EIS and are an important component of the scoping process for the Merced to Fresno HST Project EIR/EIS for both the State and Federal environmental review. FRA is seeking participation and input of all interested federal, state, and local agencies, Native American groups, and other concerned private organizations or individuals on the scope of the EIR/EIS. Implementation of the Merced to Fresno section of the HST System is a federal undertaking with the potential to affect historic properties. As such, it is subject to the requirements of section 106 of the National Historic Preservation Act of 1966 (16 U.S.C. 470f). In accordance with regulations issued by the Advisory Council on Historic Preservation, 36 CFR part 800, FRA intends to coordinate compliance with Section 106 of this Act with the preparation of the EIR/EIS, beginning with the identification of consulting parties in a manner consistent with the standards set out in 36 CFR 800.8.

Issued in Washington, DC, on September 25, 2009.
Mark E. Yachmetz,
Associate Administrator for Railroad Development, Federal Railroad Administration.

[FR Doc. E9-23728 Filed 9-30-09; 8:45 am]

BILLING CODE 4910-06-P